DEPARTMENT OF EDUCATION

[Docket No.: ED-2023-SCC-0128]

Agency Information Collection Activities; Submission to the Office of Management and Budget for Review and Approval; Comment Request; Teacher Education Assistance for College and Higher Education Grant Program (TEACH Grant) Agreement To Serve or Repay

AGENCY: Federal Student Aid (FSA), Department of Education (ED).

ACTION: Notice.

SUMMARY: In accordance with the Paperwork Reduction Act (PRA) of 1995, the Department is proposing a revision of a currently approved information collection request (ICR).

DATES: Interested persons are invited to submit comments on or before October 25, 2023.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Beth Grebeldinger, (202) 377-4018.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Teacher Education Assistance for College and Higher Education Grant Program (TEACH Grant) Agreement to Serve or Repay.

OMB Control Number: 1845-0083.

Type of Review: Revision of a currently approved ICR.

Respondents/Affected Public: Individuals or households.

Total Estimated Number of Annual Responses: 50,793.

Total Estimated Number of Annual Burden Hours: 25,397.

Abstract: The U.S. Department of Education is requesting a revision of the TEACH Grant Agreement currently approved under OMB No. 1845-0083. The Consider Teachers Act of 2021 (Pub. L. 117-49) made certain changes to the provisions governing the TEACH Grant Program in section 420N of the HEA, one of which was to replace the previous requirement for a TEACH Grant recipient to comply with the requirements for being a highly qualified teacher as defined in section 9101 of the Elementary and Secondary Education Act of 1965 with a requirement for the recipient to meet all state certification requirements for teaching (which may include meeting such requirements through certification obtained through alternative routes to teaching). To reflect this statutory change, we have modified the Agreement by replacing all references to the highly qualified teacher requirement with the new requirement and removing the definition of “highly qualified teacher.” We have also updated the section of the Agreement that describes the terms and conditions of Direct Unsubsidized Loans to reflect certain changes to the Direct Loan Program regulations that were made by a final rule published in the Federal Register on November 1, 2022 (87 FR 65904). In addition to making these updates to reflect statutory and regulatory changes, we have made minor, non-substantive wording changes in several places throughout the Agreement for greater clarity.

Dated: September 19, 2023.
Kun Mullan,
PRA Coordinator, Strategic Collections and Clearance, Governance and Strategy Division, Office of Chief Data Officer, Office of Planning, Evaluation and Policy Development.

[FR Doc. 2023-20616 Filed 9-22-23; 8:45 am]

BILLING CODE 4000-01-P